ARCHITECTURAL AND TRANSPORTATION BARRIERS COMPLIANCE BOARD

36 CFR Part 1190

[Docket No. ATBCB 2011-04]

RIN 3014-AA26

Accessibility Guidelines for Pedestrian Facilities in the Public Right-of-Way

AGENCY: Architectural and Transportation Barriers Compliance Board.

ACTION: Notice of Proposed Rulemaking; Correction.

SUMMARY: This document corrects the proposed accessibility guidelines for pedestrian facilities in the public right-of-way published in the Federal Register on July 26, 2011. Some of the Web pages referenced in the preamble are inactive and some of the sections of the proposed guidelines contain incorrect references to other sections of the guidelines. This document corrects the Web page references and section references.

FOR FURTHER INFORMATION CONTACT: Scott Windley, Office of Technical and Information Services, Architectural and Transportation Barriers Compliance Board, 1331 F Street, NW., Suite 1000, Washington, DC 20004-1111. Telephone (202) 272-0025 (voice) or (202) 272-0028 (TTY). E-mail address row@access-board.gov.

SUPPLEMENTARY INFORMATION: A copy of the proposed accessibility guidelines for pedestrian facilities in the public right-of-way with the corrected Web page references and section references is available on the Access Board's Web site at: http://www.access-board.gov/prowac/nprm.htm.

Correction

In the proposed rule FR Doc. 2011-17721 in the issue of July 26, 2011, make the following corrections:

Corrections to the Preamble

1. On page 44683, column 1, footnote 45 is corrected to read as follows:

“45. Focus groups and surveys of pedestrians who are blind or have low vision commissioned by the Guide Dogs for the Blind Association in the United Kingdom and Netherlands document the difficulties that these pedestrians have using shared streets. See “The Impact of Shared Surface Streets and Shared Use Pedestrian/Cycle Paths on the Mobility and Independence of Blind and Partially Sighted People” (2010) available at: http://gdbass.netefficiency.co.uk/fileadmin/sharedsurfaces/user/documents/TNS_Report_Text_version_Impact_of_shared_surface_streets_and_shared_use_paths_GD_2010.doc; “Shared Surface Street Design Research Project, The Issues: Report of Focus Groups” (2006) available at: http://community.stroud.gov.uk/_documents/23_Shared_Surface_Street_Design_Research_Project.pdf; and “Shared Surface Street Design: Report of Focus Groups Held in Holland” (2006) available at: http://www.alanhunt.co/pdf/Report_of_Holland_Focus_Groups.pdf.”

2. On page 44683, column 2, footnote 46 is corrected to read as follows:

“46. “Shared Space Delineators, Are They Detectable?” (2010) available at: http://theihe.org/knowledge-network/uploads/Shared%20Space%20Delineators%20TfL%20Report.pdf. See also “Testing Proposed Delineators to Demarcate Pedestrian Paths in a Shared Space Environment, Report of Design Trials Conducted at University College London” (2008) available at: http://www.homezones.org.uk/public/downloads/news/Exec%20Summary%20&%20Full%20Report%20of%20design%20trials%20at%20UCL%20PAMELA%200108.pdf.”

Corrections to Appendix to Part 1190—Accessibility Guidelines for Pedestrian Facilities in the Public Right-of-Way

1. On page 44689, column 2, in Advisory R204.2 Sidewalks, line 13, the reference to “R309.6” is corrected to “R309.5.”

2. On page 44690, column 2, in R209.1 General, line 8, the reference to “R406” is corrected to “R403.”

3. On page 44691, column 3, in Advisory R302.3 Continuous Width, line 10, the reference to “R407.5” is corrected to “R407.4.”

4. On page 44692, column 1, in Advisory R302.6 Cross Slope, the sentence “Cross slope requirements are contained in R304.2.3 for perpendicular curb ramps, in R304.3.3 for parallel curb ramps, in R304.4.2 for blended transitions, and in R407.3 for ramps” is corrected to read “Cross slope requirements are contained in R304.5.3 for curb ramps and blended transitions, and in R407.3 for ramps.”

5. On page 44693, column 3, in R306.2 Pedestrian Signal Phase Timing, line 4, the reference to “R104.2.4” is corrected to “R104.2.”

6. On page 44695, column 3, in Advisory R403.1 General, line 5, the reference to “R309.6” is corrected to “R309.5.”

7. On page 44695, column 3, in R403.3 Height, line 3, the reference to “R405” is corrected to “R406.”

8. On page 44695, column 3, in Advisory R404.1 General, line 6, the reference to “R309.6” is corrected to “R309.5.”

9. On page 44696, column 1, in R405.2.1 General, line 5, the reference to “R404.2” is corrected to “R405.2.”

10. On page 44696, column 2, in R407.6 Landings, line 4, the reference to “R407.7” is corrected to “R407.6.”

11. On page 44696, column 3, in Advisory R409.1 General, line 8, the reference to “R216” is corrected to “R217.”

David Capozzi,
Executive Director.

[FR Doc. 2011-19224 Filed 7-28-11; 8:45 am]

BILLING CODE 8150-01-P